DEPARTMENT OF JUSTICE

Drug Enforcement Administration

Agency Information Collection Activities: Proposed Collection; Comment Requested

ACTION: Notice of Information Collection Under Review; Extension of a currently approved collection; Application for registration (DEA Form 224); Application for Registration Renewal (DEA Form 224a); and Affidavit for Chain Renewal (DEA Form 224B).

The Department of Justice, Drug Enforcement Administration has submitted the following information collection request for review and clearance in accordance with the Paperwork Reduction Act of 1995. This proposed information collection is published to obtain comments from the public and affected agencies. Comments are encouraged and will be accepted for “sixty days” until February 5, 2001.

If you have additional comments, suggestions, or need a copy of the proposed information collection instrument with instructions or additional information, please contact James A. Pacella, 202-307-7250, Registration and Program Support Section, Office of Diversion Control, Drug Enforcement Administration, U.S. Department of Justice, Washington, DC 20537.

Written comments and/or suggestions from the public and affected agencies concerning the proposed collection of information should address one or more of the following four points:

1. Evaluate whether the proposed collection of information is necessary for the proper performance of the function of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submission of responses.

Overview of this information:

1. Type of information collection: Extension of a currently approved collection.

2. The title of the form/collection: Application for Registration (DEA Form 224); Application for Registration Renewal (DEA Form 224a); and Affidavit for Chain Renewal (DEA Form 224B).

3. The agency form number, if any, and the applicable component of the Department sponsoring the collection: Form Number: DEA Form 224, DEA Form 224a and DEA Form 224B. Applicable component of the Department of Justice sponsoring the collection: Office of Diversion Control, Drug Enforcement Administration, U.S. Department of Justice.

4. Affected public who will be asked or required to respond, as well as a brief abstract: Primary: Business or other for-profit. Other: Individuals or households, Not-for-profit institutions and State, Local or Tribal Government. Abstract: All firms and individuals who distribute or dispense controlled substances must register with the DEA under the Controlled Substances Act. Registration is needed for control measures over legal handlers of controlled substances and is used to monitor their activities. A revision made to the subject forms requires the respondent to submit their Tax Identification Number or Social Security Number as required by the Debt Collection Improvement Act of 1996 (PL 104-134).

5. An estimate of the total number of respondents and the amount of time estimated for an average respondent to respond/reply: Regarding DEA Form 224 and DEA Form 224a: 374,701 respondents, .20 hours per response. A respondent will take an estimate of 12 minutes per year to complete a DEA Form 224 or DEA 224a. Regarding DEA Form 224B: 12 respondents, 5 hours per response. A respondent will take an estimate of 5 hours per year to complete a DEA Form 224B.

6. An estimate of the total public burden (in hours) associated with the collection: 75,000 annual burden hours.

Public comments on this proposed information collection are strongly encouraged.

If additional information is required contact: Mr. Robert B. Briggs, Department Clearance Officer, U.S. Department of Justice, Information Management and Security Staff, Justice Management Division, Suite 1220, National Place Building, 1331 Pennsylvania Ave., NW., Washington, DC 20530.

Dated: November 30, 2000.
Robert B. Briggs,
Department Clearance Officer, United States Department of Justice.

[FR Doc. 00-31117 Filed 12-6-00; 8:45 am]

BILLING CODE 4410-09-M